DEPARTMENT OF THE INTERIOR

National Park Service

[NPS-WASO-NRNHL-DTS#-33859; PPWOCRADI0, PCU00RP14.R50000]

National Register of Historic Places; Notification of Pending Nominations and Related Actions

AGENCY: National Park Service, Interior.

ACTION: Notice.

SUMMARY: The National Park Service is soliciting electronic comments on the significance of properties nominated before April 30, 2022, for listing or related actions in the National Register of Historic Places.

DATES: Comments should be submitted electronically by May 25, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 30, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Sutton Place, Osborn Rd. and 26th St., Phoenix, SG100007785

ARKANSAS

Pulaski County

Calvary Cemetery, Historic Section, SW corner of Charles Bussey Ave. (20th St.) and Woodrow St., Little Rock, SG100007766

MINNESOTA

Ramsey County

Amhoist Tower, 345 Saint Peter St., 59 4th St. West, Saint Paul, SG100007789

Rock County

Manfred, Frederick and Maryanna, House, 1341 141st St. (141st St. and US 75), Luverne, SG100007790

PENNSYLVANIA

Chester County

Lincoln University, 1570 Baltimore Pike, Lower Oxford Township, SG100007786

Passtown Elementary School (Educational Resources of Pennsylvania MPS), 890 West Lincoln Hwy., Valley Township, MP100007787

Philadelphia County

Reyburn Manufacturing Company Building, 3111 West Allegheny Ave., Philadelphia, SG100007771

E.A. Wright Bank Note Company Building, 2527-2537 North Broad St., Philadelphia, SG100007788

SOUTH CAROLINA

Allendale County

Allendale Training School (Equalization Schools in South Carolina, 1951-1960 MPS) (African-American Primary and Secondary School Buildings MPS), 4561 Allendale-Fairfax Hwy., Allendale, MP100007773

Clarendon County

Clarendon County Health Center and Office Building, 3 South Church St., Manning, SG100007767

Lancaster County

Ellen Dean Hotel, 113-141 North White St., Lancaster, SG100007778

UTAH

Sanpete County

Olsen House and Mortuary, 315 South 200 East, Ephraim, SG100007779

Washington County

Dixie Hillside “D”, West Black Ridge, St. George vicinity, SG100007768

La Verkin Hydroelectric Power Plant (Electric Power Plants of Utah MPS), Off South State St., La Verkin, MP100007777

VIRGINIA

Henrico County

Chatsworth School, 1451 Chatsworth Rd., Henrico, SG100007781

Petersburg Independent City

Byrne Street USO Club, 464 Byrne St., Petersburg, SG100007780

Wythe County

Fulton, Andrew and Sarah, Farm, 531 Kohler Ave., Austinville vicinity, SG100007782

WISCONSIN

Douglas County

Gordon, Antoine and Sarah, House, 97 Cty. Rd. Y, Gordon, SG100007769

Additional documentation has been received for the following resources:

KENTUCKY

Fulton County

Fulton Downtown Historic District, Part of Carr, Commercial, Lake, Main, and Walnut Sts., Fulton, AD03000710

RHODE ISLAND

Providence County

Woonsocket Company Mill Complex (Additional Documentation), 100-115 Front St., Woonsocket, AD73000005

UTAH

Summit County

Shields, John, House (Additional Documentation) (Mining Boom Era Houses TR), 416 Park Ave., Park City, AD84003997

(Authority: Section 60.13 of 36 CFR part 60)

Dated: May 4, 2022.
Sherry A. Frear,
Chief, National Register of Historic Places/National Historic Landmarks Program.

[FR Doc. 2022-09967 Filed 5-9-22; 8:45 am]

BILLING CODE 4312-52-P